DEPARTMENT OF ENERGY

Federal Energy Regulatory Commission

[Project No. 14540-002]

Western Minnesota Municipal Power Agency; Notice of Surrender of Preliminary Permit

Take notice that Western Minnesota Municipal Power Agency, permittee for the proposed Melvin Price Lock and Dam, Missouri—Hydroelectric Water Power Project, has requested that its preliminary permit be terminated. The permit was issued on June 25, 2014, and would have expired on May 31, 2017.¹ The project would have been located on the Mississippi River near the City of Alton, Illinois, in Madison County, Illinois, and the City of West Alton, in St. Charles County, Missouri.

¹ Western Minnesota Municipal Power Agency, 147 FERC ¶ 62,226 (2014).

The preliminary permit for Project No. 14540 will remain in effect until the close of business, June 24, 2016. But, if the Commission is closed on this day, then the permit remains in effect until the close of business on the next day in which the Commission is open.² New applications for this site may not be submitted until after the permit surrender is effective.

² 18 CFR 385.2007(a)(2) (2014).

Dated: May 25, 2016.
Kimberly D. Bose,
Secretary.

[FR Doc. 2016-12832 Filed 5-31-16; 8:45 am]

BILLING CODE 6717-01-P